ENVIRONMENTAL PROTECTION AGENCY

[OPP-2004-0116; FRL-7356-3]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period January 1, 2004 to March 31, 2004, to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2004-0116. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Specific: EPA authorized the use of coumaphos in beehives to control varroa mites and small hive beetles; March 18, 2004 to February 1, 2005. Contact: (Barbara Madden)

EPA authorized the use of diuron in catfish ponds to control blue-green algae (Oscillatoria chalybea (cyanobacteria); March 19, 2004, to November 30, 2004. Contact: (Libby Pemberton)

Arizona

Department of Agriculture

Specific: EPA authorized the use of coumaphos in beehives to control varroa mites and small hive beetles; February 2, 2004 to February 1, 2005. Contact: (Barbara Madden)

Arkansas

State Plant Board

Specific: EPA authorized the use of thymol in beehives to control varroa mites; February 5, 2004 to November 8, 2004. Contact: (Stacey Groce)

EPA authorized the use of coumaphos in beehives to control varroa mites and small hive beetles; February 17, 2004 to February 1, 2005. Contact: (Barbara Madden)

California

Environmental Protection Agency, Department of Pesticide Regulation

Crisis: On February 18, 2004, for the use of abamectin on avocado to control avocado thrip (Scirtothrips perseae). This program is expected to end on December 1, 2004. Contact: (Libby Pemberton)

On March 25, 2004, for the use of oxytetracycline on apples (Pink Lady variety only) to control fire blight. This program is expected to end on August 1, 2004. Contact: (Barbara Madden)

Specific: EPA authorized the use of pyriproxyfen on celery to control silverleaf whitefly (Bemisia argentifolii) and the greenhouse whitefly (Trialeurodes vaporariorum); January 6, 2004, to January 6, 2005. Contact: (Libby Pemberton)

EPA authorized the use of coumaphos in beehives to control varroa mites and small hive beetles; February 17, 2004 to February 1, 2005. Contact: (Barbara Madden)

EPA authorized the use of maneb on walnuts to control walnut blight; March 1, 2004 to June 15, 2004. Contact: (Linda Arrington)

EPA authorized the use of avermectin on avocado to control thrips (Scirtothrips perseae); March 5, 2004, to December 1, 2004. Contact: (Libby Pemberton)

EPA authorized the use of oxytetracycline on apples (Pink Lady variety only) to control fire blight; March 26, 2004, to August 1, 2004. Contact: (Barbara Madden)

Colorado

Department of Agriculture

Specific: EPA authorized the use of thymol in beehives to control varroa mites; February 5, 2004 to November 8, 2004. Contact: (Stacey Groce)

EPA authorized the use of coumaphos in beehives to control varroa mites and small hive beetles; February 17, 2004 to February 1, 2005. Contact: (Barbara Madden)

EPA authorized the use of tetraconazole on sugarbeet to control Cercospora leaf spot; March 11, 2004 to September 30, 2004. (Andrea Conrath).

EPA authorized the use of difenoconazole on sweet corn seed to control damping-off and die-back diseases; March 19, 2004 to March 19, 2005. Contact: (Andrea Conrath)

EPA authorized the use of lambda-cyhalothrin on barley to control Russian wheat aphid and cereal leaf beetle; April 15, 2004 to July 15, 2004. Contact: (Andrew Ertman)

EPA authorized the use of tebuconazole on sunflowers to control rust; July 1, 2004 to August 25, 2004. Contact: (Linda Arrington)

Connecticut

Department of Environmental Protection

Specific: EPA authorized the use of fenbuconazole on blueberries to control mummy berry disease; March 19, 2004 to June 30, 2004. Contact: (Andrea Conrath)

EPA authorized the use of thymol in beehives to control varroa mites; March 19, 2004 to November 8, 2004. Contact: (Stacey Groce)

EPA authorized the use of coumaphos in beehives to control varroa mites and small hive beetles; March 31, 2004 to February 1, 2005. Contact: (Barbara Madden)

Delaware

Department of Agriculture

Specific: EPA authorized the use of coumaphos in beehives to control varroa mites and small hive beetles; March 4, 2004 to February 1, 2005. Contact: (Barbara Madden)

EPA authorized the use of terbacil in watermelons to control annual broadleaf weeds (annual morning-glory); March 26, 2004 to June 15, 2004. Contact: (Stacey Groce)

Florida

Department of Agriculture and Consumer Services

Specific: EPA authorized the use of coumaphos in beehives to control varroa mites and small hive beetles; January 19, 2004 to January 18, 2005. Contact: (Barbara Madden)

EPA authorized the use of pyriproxyfen on legumes to control whiteflies; February 7, 2004, to February 7, 2005. (Andrea Conrath).

EPA authorized the use of thiophanate methyl on citrus to control post-bloom fruit drop; February 27, 2004 to February 27, 2005. (Andrea Conrath).

EPA authorized the use of fenbuconazole on grapefruit to control greasy spot; March 17, 2004 to October 1, 2004. Contact: (Andrea Conrath)

EPA authorized the use of thiophanate-methyl on fruiting vegetable group 1 (tomatoes, peppers and egg plant) to control white mold; March 31, 2004 to March 31, 2005. Contact: (Andrea Conrath)

Georgia

Department of Agriculture

Specific: EPA authorized the use of fenbuconazole on blueberries to control mummyberry disease; February 5, 2004 to July 1, 2004. (Andrea Conrath).

EPA authorized the use of coumaphos in beehives to control varroa mites and small hive beetles; February 17, 2004 to February 1, 2005. Contact: (Barbara Madden)

Idaho

Department of Agriculture

Specific: EPA authorized the use of coumaphos in beehives to control varroa mites and small hive beetles; February 2, 2004 to February 1, 2005. Contact: (Barbara Madden)

EPA authorized the use of thymol in beehives to control varroa mites; February 5, 2004 to November 8, 2004. Contact: (Stacey Groce)

EPA authorized the use of thiabendazole on lentils to control Ascochyta blight; February 12, 2004 to June 1, 2004. (Andrea Conrath).

EPA authorized the use of difenoconazole on sweet corn seed to control damping-off and die-back diseases; March 19, 2004 to March 19, 2005. Contact: (Andrea Conrath)

EPA authorized the use of carfentrazone-ethyl on hops to control hop suckers to indirectly control powdery mildew; March 20, 2004 to August 15, 2004. Contact: (Barbara Madden)

EPA authorized the use of oxytetracycline on apples to control fire blight); March 26, 2004, to August 1, 2004. Contact: (Barbara Madden)

EPA authorized the use of myclobutanil on hops to control powdery mildew; May 1, 2004 to September 1, 2004. Contact: (Barbara Madden)

EPA authorized the use of lambda-cyhalothrin on barley to control Russian wheat aphids, cereal leaf beetles, armyworms, and cutworms; May 1, 2004 to July 30, 2004. Contact: (Andrew Ertman)

Illinois

Department of Agriculture

Specific: EPA authorized the use of coumaphos in beehives to control varroa mites and small hive beetles; February 17, 2004 to February 1, 2005. Contact: (Barbara Madden)

EPA authorized the use of thymol in beehives to control varroa mites; March 8, 2004 to November 8, 2004. Contact: (Stacey Groce)

Indiana

Office of Indiana State Chemist

Specific: EPA authorized the use of coumaphos in beehives to control varroa mites and small hive beetles; March 18, 2004 to February 1, 2005. Contact: (Barbara Madden)

EPA authorized the use of thymol in beehives to control varroa mites; March 31, 2004 to November 8, 2004. Contact: (Stacey Groce)

Iowa

Department of Agriculture and Land Stewardship

Specific: EPA authorized the use of imidacloprid on soybean seed to control bean leaf beetles and soybean aphids; February 6, 2004 to March 31, 2004. Contact: (Andrew Ertman)

EPA authorized the use of coumaphos in beehives to control varroa mites and small hive beetles; March 4, 2004 to February 1, 2005. Contact: (Barbara Madden)

EPA authorized the use of thymol in beehives to control varroa mites; March 8, 2004 to November 8, 2004. Contact: (Stacey Groce)

Kansas

Department of Agriculture

Specific: EPA authorized the use of coumaphos in beehives to control varroa mites and small hive beetles; February 2, 2004 to February 1, 2005. Contact: (Barbara Madden)

Kentucky

Department of Agriculture

Specific: EPA authorized the use of coumaphos in beehives to control varroa mites and small hive beetles; February 2, 2004 to February 1, 2005. Contact: (Barbara Madden)

EPA authorized the use of thymol in beehives to control varroa mites; February 24, 2004 to November 8, 2004. Contact: (Stacey Groce)

Louisiana

Department of Agriculture and Forestry

Specific: EPA authorized the use of coumaphos in beehives to control varroa mites and small hive beetles; February 17, 2004 to February 1, 2005. Contact: (Barbara Madden)

EPA authorized the use of s-metolachlor on sweet potatoes to control broadleaf weeds; April 1, 2004 to July 15, 2004. Contact: (Andrew Ertman)

Maine

Department of Agriculture, Food, and Rural Resources

Specific: EPA authorized the use of fenbuconazole on blueberries to control mummy berry disease; March 19, 2004 to June 15, 2004. Contact: (Andrea Conrath)

Maryland

Department of Agriculture

Specific: EPA authorized the use of thymol in beehives to control varroa mites; February 24, 2004 to November 8, 2004. Contact: (Stacey Groce)

EPA authorized the use of terbacil in watermelons to control annual broadleaf weeds (annual morning-glory); March 26, 2004 to June 28, 2004. Contact: (Stacey Groce)

Massachusetts

Massachusetts Department of Food and Agriculture

Specific: EPA authorized the use of thymol in beehives to control varroa mites; March 15, 2004 to November 8, 2004. Contact: (Stacey Groce)

EPA authorized the use of coumaphos in beehives to control varroa mites and small hive beetles; March 18, 2004 to February 1, 2005. Contact: (Barbara Madden)

EPA authorized the use of propyzamide on cranberries to control dodder; March 19, 2004 to June 15, 2004. Contact: (Andrew Ertman)

Michigan

Michigan Department of Agriculture

Specific: EPA authorized the use of thymol in beehives to control varroa mites; February 24, 2004 to November 8, 2004. Contact: (Stacey Groce)

EPA authorized the use of fenbuconazole on blueberries to control mummyberry disease; March 5, 2004 to September 1, 2004. (Andrea Conrath).

EPA authorized the use of oxytetracycline on apples to control (fire blight); March 26, 2004, to June 30, 2004. Contact: (Barbara Madden)

EPA authorized the use of thiophanate-methyl on blueberries to control various fungal diseases; April 1, 2004 to September 30, 2004. Contact: (Andrea Conrath)

Minnesota

Department of Agriculture

Quarantine: EPA authorized the use of quarantine on soybeans to control soybean rust; effective from the time when soybean rust is introduced to the U.S., to March 1, 2007. Contact: (Andrew Ertman)

Specific: EPA authorized the use of tetraconazole on sugarbeet to control Cercospora leaf spot; March 11, 2004 to September 30, 2004. (Andrea Conrath)

EPA authorized the use of thymol in beehives to control varroa mites; March 15, 2004 to November 8, 2004. Contact: (Stacey Groce)

EPA authorized the use of coumaphos in beehives to control varroa mites and small hive beetles; March 18, 2004 to February 1, 2005. Contact: (Barbara Madden)

EPA authorized the use of lambda-cyhalothrin on wild rice to control rice worms; August 1, 2004 to September 10, 2004. Contact: (Andrew Ertman)

Mississippi

Department of Agriculture and Commerce

Crisis: On March 12, 2004, for the use of fenbuconazole on blueberries to control Mummy berry disease. This program is expected to end on August 31, 2004. Contact: (Barbara Madden)

Specific: EPA authorized the use of coumaphos in beehives to control varroa mites and small hive beetles; February 17, 2004 to February 1, 2005. Contact: (Barbara Madden)

EPA authorized the use of thymol in beehives to control varroa mites; March 8, 2004 to November 8, 2004. Contact: (Stacey Groce)

EPA authorized the use of diuron in catfish ponds to control blue-green algae (Oscillatoria chalybea (cyanobacteria); March 19, 2004, to November 1, 2004. Contact: (Libby Pemberton)

Missouri

Department of Agriculture

Specific: EPA authorized the use of coumaphos in beehives to control varroa mites and small hive beetles; March 18, 2004 to February 1, 2005. Contact: (Barbara Madden)

EPA authorized the use of thymol in beehives to control varroa mites; March 19, 2004 to November 8, 2004. Contact: (Stacey Groce)

Montana

Department of Agriculture

Specific: EPA authorized the use of tetraconazole on sugarbeet to control Cercospora leaf spot; March 11, 2004 to September 30, 2004. (Andrea Conrath).

EPA authorized the use of lambda-cyhalothrin on barley to control Russian wheat aphids, cereal leaf beetles and cutworms; April 1, 2004 to July 30, 2004. Contact: (Andrew Ertman)

Nebraska

Department of Agriculture

Specific: EPA authorized the use of coumaphos in beehives to control varroa mites and small hive beetles; March 4, 2004 to February 1, 2005. Contact: (Barbara Madden)

EPA authorized the use of thymol in beehives to control varroa mites; March 8, 2004 to November 8, 2004. Contact: (Stacey Groce)

EPA authorized the use of tetraconazole on sugarbeet to controlCercospora leaf spot; March 11, 2004 to September 30, 2004. (Andrea Conrath).

New Jersey

Department of Environmental Protection

Specific: EPA authorized the use of propyzamide on cranberries to control dodder; April 30, 2004 to December 15, 2004. Contact: (Andrew Ertman)

New Mexico

Department of Agriculture

Specific: EPA authorized the use of coumaphos in beehives to control varroa mites and small hive beetles; February 17, 2004 to February 1, 2005. Contact: (Barbara Madden)

New York

Department of Environmental Conservation

Specific: EPA authorized the use of fenbuconazole on blueberries to control mummyberry disease; February 5, 2004 to June 30, 2004. (Andrea Conrath)

EPA authorized the use of thymol in beehives to control varroa mites; March 31, 2004 to November 8, 2004. Contact: (Stacey Groce)

EPA authorized the use of lambda-cyhalothrin on alfalfa/clover/grass mixed stand to control potato leafhopper; June 1, 2004 to August 31, 2004. Contact: (Linda Arrington)

North Carolina

Department of Agriculture

Specific: EPA authorized the use of coumaphos in beehives to control varroa mites and small hive beetles; February 17, 2004 to February 1, 2005. Contact: (Barbara Madden)

EPA authorized the use of fenbuconazole on blueberries to control mummyberry disease; February 24, 2004 to August 31, 2004. (Andrea Conrath).

EPA authorized the use of thymol in beehives to control varroa mites; March 15, 2004 to November 8, 2004. Contact: (Stacey Groce)

North Dakota

Department of Agriculture

Specific: EPA authorized the use of thiabendazole on lentils to control Ascochyta blight; February 12, 2004 to June 1, 2004. (Andrea Conrath).

EPA authorized the use of tetraconazole on sugarbeet to control Cercospora leaf spot; March 11, 2004 to September 30, 2004. (Andrea Conrath).

EPA authorized the use of sulfentrazone on flax to control kochia; April 1, 2004 to June 30, 2004. Contact: (Andrew Ertman)

Ohio

Department of Agriculture

Specific: EPA authorized the use of coumaphos in beehives to control varroa mites and small hive beetles; February 2, 2004 to February 1, 2005. Contact: (Barbara Madden)

EPA authorized the use of thiophanate-methyl on fruiting vegetable group 1 (tomatoes and peppers) to control white mold; March 17, 2004 to September 30, 2004. Contact: (Andrea Conrath)

Oklahoma

Department of Agriculture

Specific: EPA authorized the use of coumaphos in beehives to control varroa mites and small hive beetles; February 17, 2004 to February 1, 2005. Contact: (Barbara Madden)

Oregon

Department of Agriculture

Specific: EPA authorized the use of coumaphos in beehives to control varroa mites and small hive beetles; February 2, 2004 to February 1, 2005. Contact: (Barbara Madden)

EPA authorized the use of thymol in beehives to control varroa mites; February 5, 2004 to November 8, 2004. Contact: (Stacey Groce)

EPA authorized the use of propiconazole on hazelnuts (filberts) for controls of eastern filbert blight; February 12, 2004 to May 30, 2004. (Andrea Conrath).

EPA authorized the use of thiabendazole on lentils to control Ascochyta blight; February 12, 2004 to June 1, 2004. (Andrea Conrath).

EPA authorized the use of fenbuconazole on blueberries to control mummyberry disease; February 24, 2004 to May 31, 2004. (Andrea Conrath).

EPA authorized the use of carfentrazone-ethyl on hops to control hop suckers to indirectly control powdery mildew; March 20, 2004 to August 15, 2004. Contact: (Barbara Madden)

EPA authorized the use of two unregistered pheromones, (Z,E)-3,13-octadecadienyl and (Z,Z)-3,13-octadecadienyl on hybrid poplars grown for pulp and saw timber to control western poplar clearwing moths; March 26, 2004 to October 1, 2004. Contact: (Barbara Madden)

EPA authorized the use of oxytetracycline on apples to control fire blight; March 26, 2004, to August 1, 2004. Contact: (Barbara Madden)

EPA authorized the use of sulfentrazone on strawberries to control broadleaf weeds; March 26, 2004 to February 28, 2005. Contact: (Andrew Ertman)

EPA authorized the use of bifenthrin on orchardgrass grown for seed to control the orchardgrass billbug; March 30, 2004 to November 15, 2004. Contact: (Andrea Conrath)

EPA authorized the use of ethoprop on baby hops to control Garden symphylans; March 30, 2004 to May 31, 2004. Contact: (Barbara Madden)

EPA authorized the use of myclobutanil on hops to control powdery mildew; May 1, 2004 to September 1, 2004. Contact: (Barbara Madden)

Pennsylvania

Department of Agriculture

Specific: EPA authorized the use of coumaphos in beehives to control varroa mites and small hive beetles; March 18, 2004 to February 1, 2005. Contact: (Barbara Madden)

EPA authorized the use of thymol in beehives to control varroa mites; March 25, 2004 to November 8, 2004. Contact: (Stacey Groce)

Rhode Island

Department of Environmental Management

Specific: EPA authorized the use of propyzamide on cranberries to control dodder; March 19, 2004 to June 15, 2004. Contact: (Andrew Ertman)

South Carolina

Clemson University

Specific:

EPA authorized the use of coumaphos in beehives to control varroa mites and small hive beetles; March 18, 2004 to February 1, 2005. Contact: (Barbara Madden)

EPA authorized the use of fenbuconazole on blueberries to control mummy berry disease; March 19, 2004 to August 31, 2004. Contact: (Andrea Conrath)

South Dakota

Department of Agriculture

Quarantine: EPA authorized the use of quarantine on soybeans to control soybean rust; effective from the time when soybean rust is introduced to the U.S., to March 1, 2007. Contact: (Andrew Ertman)

Specific: EPA authorized the use of coumaphos in beehives to control varroa mites and small hive beetles; March 18, 2004 to February 1, 2005. Contact: (Barbara Madden)

EPA authorized the use of sulfentrazone on flax to control ALS-resistant kochia; May 16, 2004 to June 30, 2004. Contact: (Andrew Ertman)

Tennessee

Department of Agriculture

Specific: EPA authorized the use of thymol in beehives to control varroa mites; March 15, 2004 to November 8, 2004. Contact: (Stacey Groce)

EPA authorized the use of coumaphos in beehives to control varroa mites and small hive beetles; March 18, 2004 to February 1, 2005. Contact: (Barbara Madden)

Texas

Department of Agriculture

Specific: EPA authorized the use of coumaphos in beehives to control varroa mites and small hive beetles; February 17, 2004 to February 1, 2005. Contact: (Barbara Madden)

EPA authorized the use of diuron in catfish ponds to control blue-green algae (Oscillatoria chalybea (cyanobacteria); March 19, 2004, to November 1, 2004. Contact: (Libby Pemberton)

EPA authorized the use of thymol in beehives to control varroa mites; March 19, 2004 to November 8, 2004. Contact: (Stacey Groce)

Utah

Department of Agriculture

Specific: EPA authorized the use of thymol in beehives to control varroa mites; March 19, 2004 to November 8, 2004. Contact: (Stacey Groce)

EPA authorized the use of diflubenzuron on alfalfa hay to control grasshoppers and Mormon crickets; May 1, 2004 to October 31, 2004. Contact: (Linda Arrington)

Vermont

Department of Agriculture

Specific: EPA authorized the use of thymol in beehives to control varroa mites; March 8, 2004 to November 8, 2004. Contact: (Stacey Groce)

Virginia

Department of Agriculture and Consumer Services

Specific: EPA authorized the use of thiophanate-methyl on tomatoes to control timber rot; March 17, 2004 to September 30, 2004. Contact: (Andrea Conrath)

EPA authorized the use of terbacil in watermelons to control annual broadleaf weeds (annual morning-glory); March 26, 2004 to July 10, 2004. Contact: (Stacey Groce)

Washington

Department of Agriculture

Specific: EPA authorized the use of coumaphos in beehives to control varroa mites and small hive beetles; February 2, 2004 to February 1, 2005. Contact: (Barbara Madden)

EPA authorized the use of thymol in beehives to control varroa mites; February 5, 2004 to November 8, 2004. Contact: (Stacey Groce)

EPA authorized the use of thiabendazole on lentils to control Ascochyta blight; February 12, 2004 to June 1, 2004. (Andrea Conrath).

EPA authorized the use of fenbuconazole on blueberries to control mummyberry disease; February 24, 2004 to June 10, 2004. (Andrea Conrath).

EPA authorized the use of sulfentrazone on strawberries to control broadleaf weeds; March 17, 2004 to February 28, 2005. Contact: (Andrew Ertman)

EPA authorized the use of carfentrazone-ethyl on hops to control hop suckers to indirectly control powdery mildew; March 20, 2004 to August 15, 2004. Contact: (Barbara Madden)

EPA authorized the use of two unregistered pheromones, (Z,E)-3,13-octadecadienyl and (Z,Z)-3,13-octadecadienyl on hybrid poplars grown for pulp and saw timber to control western poplar clearwing moths; March 26, 2004 to October 1, 2004. Contact: (Barbara Madden)

EPA authorized the use of oxytetracycline on apples to control fire blight; March 26, 2004, to August 1, 2004. Contact: (Barbara Madden)

EPA authorized the use of myclobutanil on hops to control powdery mildew; May 1, 2004 to September 1, 2004. Contact: (Barbara Madden)

Wisconsin

Department of Agriculture, Trade, and Consumer Protection

Specific: EPA authorized the use of coumaphos in beehives to control varroa mites and small hive beetles; March 18, 2004 to February 1, 2005. Contact: (Barbara Madden)

EPA authorized the use of thymol in beehives to control varroa mites; March 31, 2004 to November 8, 2004. Contact: (Stacey Groce)

EPA authorized the use of sulfentrazone on strawberries to control broadleaf weeds; June 20, 2004 to December 15, 2004. Contact: (Andrew Ertman)

B. Federal Departments and Agencies

Agriculture Department

Animal and Plant Health Inspector Service

Crisis: On March 4, 2004, for the use of methyl bromide on avocados; bananas; plantains; blackberries; raspberries; cucurbit seeds, edible (shelled/unshelled); cottonseed; cucurbit vegetables; gherkins; fresh ginger tops; fresh herbs and spices; kiwi; leafy vegetables; longan; lychee; mint; opuntia; rambutan; root and tuber vegetables; dasheen; and snow peas to control various exotic pests. This program is expected to end on March 3, 2005. Contact: (Libby Pemberton)

Quarantine: EPA authorized the use of permethrin on reptiles to control tropical exotic tick species; January 15, 2004, to January 15, 2007. Contact: (Libby Pemberton)

List of Subjects

Environmental protection, Pesticides and pest.

Dated: April 23, 2004.
Betty Shackleford,
Acting Director, Registration Division, Office of Pesticide Programs.

[FR Doc. 04-10215 Filed 5-4-04; 8:45 am]

BILLING CODE 6560-50-S